DEPARTMENT OF THE INTERIOR

Bureau of Land Management

[18X LLIDB00100 L17110000.PH0000 LXSS024D0000 4500117344]

Notice of Public Meetings, Boise District Resource Advisory Council, Idaho

AGENCY: Bureau of Land Management, Interior.

ACTION: Notice of public meetings.

SUMMARY: In accordance with the Federal Land Policy and Management Act of 1976 and the Federal Advisory Committee Act of 1972, the U.S. Department of the Interior, Bureau of Land Management (BLM) Boise District Resource Advisory Council (RAC) will meet as indicated below.

DATES: The Boise District RAC will meet on February 22, 2018, and April 4, 2018. The meetings will begin at 9:00 a.m. and end no later than 4:00 p.m. Periods for public comment will take place from 11:00 a.m. to 11:30 a.m. for both meetings.

ADDRESSES: The Boise District RAC will meet at the BLM Boise District Office, 3948 Development Avenue, Boise, Idaho 83705.

FOR FURTHER INFORMATION CONTACT: Michael Williamson, BLM Boise District, Idaho, 3948 Development Avenue, Boise, Idaho 83705, (208) 384-3393, email mwilliamson@blm.gov. Persons who use a telecommunications device for the deaf (TDD) may contact Mr. Williamson by calling the Federal Relay Service (FRS) at (800) 877-8339. The FRS is available 24 hours a day, 7 days a week, to leave a message or question with Mr. Williamson. You will receive a reply during normal business hours.

SUPPLEMENTARY INFORMATION: The 15-member RAC advises the Secretary of the Interior, through the BLM, on a variety of planning and management issues associated with public land management in Idaho. During the February 22, 2018, meeting, the Boise District RAC will discuss a review of the draft for the Four Rivers Field Office Resource Management Plan including any need for follow-up, and receive updates on the Wild Horse and Burro program, travel management planning, Soda Fire rehabilitation, Tri-State fuel break project, and other field office updates. Additional topics may be added and will be included in local media announcements. During the April 4, 2018, meeting, the Boise District RAC will receive updates on the Wild Horse and Burro program, travel management planning, Fire program, Soda Fire rehabilitation, Tri-State and Soda fuel break projects, and other field office updates. Additional topics may be added and will be included in local media announcements.

RAC meetings are open to the public. The public may present written comments to the Council at the address provided above. Each formal Council meeting will also have time allocated for hearing public comments. Depending on the number of persons wishing to comment and time available, the time for individual oral comments may be limited. Before including your address, phone number, email address, or other personal identifying information in your comments, please be aware that your entire comment, including your personal identifying information, may be made publicly available at any time. While you can ask us in your comment to withhold your personal identifying information from public review, we cannot guarantee that we will be able to do so. Individuals who plan to attend and need special assistance, such as sign language interpretation, tour transportation or other reasonable accommodations, should contact the BLM as provided above.

Authority: 43 CFR 1784.4-2.

Lara Douglas,
BLM Boise District Manager.

[FR Doc. 2018-01309 Filed 1-23-18; 8:45 am]

BILLING CODE 4310-AK-P